ENVIRONMENTAL PROTECTION AGENCY

[FRL-7075-3]

Comprehensive Environmental Response, Compensation and Liability Act (CERCLA) or Superfund, Section 104; “Announcement of Proposal Deadline for the Competition for Fiscal Year 2002 Supplemental Assistance to the National Brownfields Assessment Demonstration Pilots”

AGENCY: Environmental Protection Agency.

ACTION: Notice of proposal deadline and guidelines.

SUMMARY: The Environmental Protection Agency (EPA) will begin to accept proposals for supplemental assistance for the National Brownfields Assessment Pilots on October 5, 2001. Assessment pilots awarded on or before September 30, 2000, may apply for up to $150,000 for continuance and expansion of their brownfields assessment efforts. This supplemental funding will be awarded on a competitive basis. Recipients of supplemental assessment pilot funding in FY2001 are not eligible to apply (See Catalogue of Federal Domestic Assistance Number: 66.811.

In fiscal year 2002, an additional $50,000 may be awarded to an applicant to assess the contamination of a brownfields site(s) that is or will be used for greenspace purposes. Greenspace purposes may include, but are not limited to, parks, playgrounds, trails, gardens, habitat restoration, open space, and/or greenspace preservation.

EPA expects to select up to 38 National brownfields assessment pilots to receive supplemental assistance by April 2002. The deadline for proposals for the 2002 supplemental assistance is November 26, 2001. All proposals must be postmarked by USPS or delivered at U.S. EPA Headquarters by other means, no later than November 26, 2001, and a duplicate copy sent to the appropriate U.S. EPA Regional Office.

The supplemental assistance for the National brownfields assessment pilots will be administered on a competitive basis. To ensure a fair selection process, evaluation panels consisting of EPA Regional and Headquarters staff will assess how well the proposals meet the selection criteria outlined in the application booklet The Brownfields Economic Redevelopment Initiative: Proposal Guidelines for Supplemental Assistance for the Brownfields Assessment Demonstration Pilots (September 2001). The evaluation panels make recommendations to EPA senior management. Final award decisions are made by EPA senior management, and may take into account policy considerations such as geographic distribution of funds. Applicants are encouraged to contact and, if possible, meet with EPA Regional Brownfields Coordinators.

DATES: This action is effective as of October 5, 2001, and expires on November 26, 2001. All proposals must be sent via registered or tracked (return receipt) mail and postmarked by USPS no later than November 26, 2001. Proposals must be sent to U.S. EPA Headquarters and a duplicate copy sent to the appropriate U.S. EPA Regional Office. Applicants may also send their proposals by commercial delivery service provided the proposals arrive at U.S. EPA Headquarters and the appropriate U.S. EPA Regional Office on or before close of business on November 26, 2001.

ADDRESSES: Mailing addresses for U.S. EPA Headquarters and U.S. EPA Regional Offices are provided in the Proposal Guidelines.

Obtaining Proposal Guidelines: The proposal guidelines are available via the Internet: http://www.epa.gov/brownfields/

Copies of the Proposal Guidelines will also be mailed upon request. Requests should be made by calling the U.S. EPA Call Center at the following numbers:

Washington, DC Metro Area at 703-412-9810

Outside Washington, DC Metro at 1-800-424-9346

TDD for the Hearing Impaired at 1-800-553-7672

In order to ensure that the Guidelines are received in time to be used in the preparation of the proposal, applicants should request a copy as soon as possible and in any event no later than seven (7) working days before the proposal due date. Applicants who request copies after that date might not receive the proposal guidelines in time to prepare and submit a responsive proposal.

FOR FURTHER INFORMATION CONTACT: The U.S. EPA's Office of Solid Waste and Emergency Response, Outreach and Special Projects Staff, (202) 260-4039.

SUPPLEMENTARY INFORMATION: As a part of the Environmental Protection Agency's (EPA) Brownfields Economic Redevelopment Initiative, the Brownfields Assessment Demonstration Pilots are designed to empower States, communities, tribes, and other stakeholders in economic redevelopment to work together in a timely manner to prevent, assess, and safely cleanup brownfields to promote their sustainable reuse. EPA has awarded cooperative agreements to States, cities, towns, counties and Tribes for demonstration pilots that test brownfields assessment models and facilitate coordinated public and private efforts at the Federal, State, tribal and local levels. To date, the Agency has funded 399 Brownfields Assessment Pilots.

In fiscal year 2002, EPA has determined that brownfields assessment pilots awarded on or before September 30, 2000, may apply for up to $150,000 for continuance and expansion of their brownfields assessment efforts. Recipients of supplemental assessment pilot funding in FY2001 are not eligible to apply. These pilots focus on EPA's primary mission—protecting human health and the environment. They are also an essential piece of the nation's overall community revitalization efforts. EPA works closely with other federal agencies through the Interagency Working Group on Brownfields, and builds relationships with other stakeholders on the national and local levels to develop coordinated approaches for community revitalization.

Supplemental funding for the brownfields assessment pilots is authorized under Section 104(d)(1) of the Comprehensive Environmental Response, Compensation, and Liability Act of 1980, as amended, (CERCLA or Superfund), 42 U.S.C. 9604(d)(1). States (including U.S. Territories), political subdivisions (including cities, towns, counties), and federally recognized Indian Tribes which received a brownfields assessment pilot grant on or before September 30, 2000, are eligible to apply. EPA welcomes and encourages brownfields projects by coalitions of such entities, but only a single eligible entity may receive a cooperative agreement. Cooperative agreement funds will be awarded only to a state, a political subdivision of a state, or a federally recognized Indian tribe.

Through a brownfields cooperative agreement, EPA provides funds to an eligible state, political subdivision, or Indian Tribe to undertake activities authorized under CERCLA section 104. Use of these supplemental assistance pilot funds must be in accordance with CERCLA, and all CERCLA restrictions on use of funds also apply to the assessment pilots.

The evaluation panels will review the proposals carefully and assess each response based on how well it addresses the selection criteria, briefly outlined below. Applicants should address all of the evaluation criteria. Responses to the evaluation criteria will be utilized to determine whether to make an award and the amount of funds to be awarded. All evaluation criteria are equally important. There is no guarantee of an award.

Part I (Required)

1. Established Brownfields Program

2. Accomplishments under Existing Brownfields Assessment Pilot

3. Demonstrated Ability to Administer Existing Brownfields Assessment Demonstration Pilot

4. Work to be Performed

Part II (Optional)

5. Greenspace

—Authority and Context

—Community Involvement

—Site Identification, Site Assessment Plan, Flow of Ownership, and Reuse Planning

Dated: September 20, 2001.
Linda Garczynski,
Director, Outreach and Special Projects Staff, Office of Solid Waste and Emergency Response.

[FR Doc. 01-25014 Filed 10-4-01; 8:45 am]

BILLING CODE 6560-50-P